DEPARTMENT OF LABOR

Employment and Training Administration

[TA-W-83,250]

Evraz Claymont Steel, Including On-Site Leased Workers From Narco, Bernard Personnel (BP) Staffing, Star Building Services, Gettier Security, Tube City IMS, and Penache Mechanical Claymont, Delaware; Amended Certification Regarding Eligibility To Apply for Worker Adjustment Assistance

In accordance with Section 223 of the Trade Act of 1974, as amended (“Act”), 19 U.S.C. 2273, the Department of Labor issued a Certification of Eligibility to Apply for Worker Adjustment Assistance on February 21, 2014, applicable to workers of Evraz Claymont Steel, including on-site leased workers from BP Staffing and Penache Mechanical, Claymont, Delaware. The Department's notice of determination was published in the Federal Register on March 14, 2014 (79 FR 14542).

At the request of the State Workforce Office, the Department reviewed the certification for workers of the subject firm. The workers were engaged in activities related to the production of plate steel.

The investigation confirmed that workers leased from NARCO, Star Building Services, Gettier Security, and Tube City IMS were employed on-site at the Claymont, Delaware location of Evraz Claymont Steel. The Department has determined that these workers were sufficiently under the control of the subject firm to be considered leased workers.

Based on these findings, the Department is amending this certification to include workers leased from NARCO, Star Building Services, Gettier Security, and Tube City IMS working on-site at the Claymont, Delaware location of Evraz Claymont Steel.

The amended notice applicable to TA-W-83,250 is hereby issued as follows:

All workers of Evraz Claymont Steel, including on-site leased workers from NARCO, Bernard Personnel (BP) Staffing, Star Building Services, Gettier Security, Tube City IMS, and Penache Mechanical, who became totally or partially separated from employment on or after November 19, 2012 through February 21, 2016, and all workers in the group threatened with total or partial separation from employment on the date of certification through two years from the date of certification, are eligible to apply for adjustment assistance under Chapter 2 of Title II of the Trade Act of 1974, as amended.

Signed in Washington, DC, this 31st day of July 2014.
Del Min Amy Chen,
Certifying Officer, Office of Trade Adjustment Assistance.

[FR Doc. 2014-19950 Filed 8-21-14; 8:45 am]

BILLING CODE 4510-FN-P